DEPARTMENT OF COMMERCE

International Trade Administration

[A-469-814]

Chlorinated Isocyanurates From Spain: Final No Shipments Determination of Antidumping Duty Administrative Review; 2018-2019

AGENCY: Enforcement and Compliance, International Trade Administration, Department of Commerce.

SUMMARY: The Department of Commerce (Commerce) determines that Ercros S.A. (Ercros) had no shipments of subject merchandise during the period of review (POR), June 1, 2018 through May 31, 2019.

DATES: Applicable December 4, 2019.

FOR FURTHER INFORMATION CONTACT: Andrew Huston AD/CVD Operations, Office VII, Enforcement and Compliance, International Trade Administration, U.S. Department of Commerce, 1401 Constitution Avenue NW, Washington, DC 20230; telephone: (202) 482-4261.

SUPPLEMENTARY INFORMATION:

Background

On September 30, 2019, Commerce published the preliminary no shipments determination in the 2018-2019 administrative review of the antidumping duty order on chlorinated isocyanurates (chlorinated isos) from Spain.¹ No parties submitted comments on the Preliminary Determination.

¹ See Chlorinated Isocyanurates from Spain: Preliminary No Shipments Determination of Antidumping Duty Administrative Review; 2018-2019, 84 FR 51511 (September 30, 2019) (Preliminary Determination).

Scope of the Order

The products covered by the order are chlorinated isocyanurates. Chlorinated isocyanurates are derivatives of cyanuric acid, described as chlorinated s-triazine triones. There are three primary chemical compositions of chlorinated isocyanurates: (1) Trichloroisocyanuric acid (Cl3(NCO)3), (2) sodium dichloroisocyanurate (dihydrate) (NaCl2(NCO)3 2H2O), and (3) sodium dichloroisocyanurate (anhydrous) (NaCl2(NCO)3). Chlorinated isocyanurates are available in powder, granular, and tableted forms. The order covers all chlorinated isocyanurates. Chlorinated isocyanurates are currently classifiable under subheadings 2933.69.6015, 2933.69.6021, and 2933.69.6050 of the Harmonized Tariff Schedule of the United States (HTSUS). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. Although the HTSUS subheadings are provided for convenience and customs purposes, the written description of the scope of the order is dispositive.

Final Determination of No Shipments

Commerce preliminarily found that Ercros did not have any shipments of subject merchandise during the POR.² After the Preliminary Determination we received no comments or additional information with respect to this company. Therefore, for these final results, we continue to find that Ercros had no shipments of subject merchandise during the POR. Consistent with our practice, we will issue appropriate instructions to U.S. Customs and Border Protection (CBP) based on these final results.

² Id.

Analysis of Comments Received

As noted above, we received no comments on the Preliminary Determination.

Changes Since the Preliminary Results

As no parties submitted comments on the Preliminary Determination, Commerce has not modified its analysis from that presented in the Preliminary Determination, and no decision memorandum accompanies this Federal Register notice.

Assessment Rates

We have not calculated any assessment rates in this administrative review. Pursuant to Commerce's assessment practice, because we have determined that Ercros had no shipments of the subject merchandise, any suspended entries that entered under that exporter's case number (i.e., at that exporter's rate) will be liquidated at the all-others rate.³ Commerce intends to issue appropriate assessment instructions to CBP 15 days after the publication date of the final results of this administrative review.

³ See Non-Market Economy Antidumping Proceedings: Assessment of Antidumping Duties, 76 FR 65694 (October 24, 2011).

Cash Deposit Requirements

The following cash deposit requirements will be effective for all shipments of the subject merchandise entered, or withdrawn from warehouse, for consumption on or after the publication date of the final results of this administrative review, as provided by section 751(a)(2)(C) of the Act: (1) The cash deposit rate for Ercros will remain unchanged from the rate assigned to the company in the most recently completed review of that company; (2) for other manufacturers and exporters covered in a prior segment of the proceeding, the cash deposit rate will continue to be the company-specific rate published for the most recently completed segment of this proceeding in which that manufacturer or exporter participated; (3) if the exporter is not a firm covered in this review, a prior review, or the original investigation, but the manufacturer is, then the cash deposit rate will be the rate established for the most recently completed segment of this proceeding for the manufacturer of subject merchandise; and (4) the cash deposit rate for all other manufacturers or exporters will continue to be 24.83 percent, the all-others rate established in the investigation.⁴ These deposit requirements, when imposed, shall remain in effect until further notice.

⁴ See Chlorinated Isocyanurates from Spain: Notice of Final Determination of Sales at Less Than Fair Value, 70 FR 24506 (May 10, 2005).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a sanctionable violation.

We are issuing and publishing these final results and this notice in accordance with sections 751(a)(1) and 777(i)(1) of the Act and 19 CFR 351.213(h).

Dated: November 29, 2019.
Jeffrey I. Kessler,
Assistant Secretary for Enforcement and Compliance.

[FR Doc. 2019-26220 Filed 12-3-19; 8:45 am]

BILLING CODE 3510-DS-P